DEPARTMENT OF STATE

[Public Notice: 11642]

Defense Trade Advisory Group; Notice of Membership

ACTION: Notice.

SUMMARY: The U.S. Department of State's Bureau of Political-Military Affairs “the Bureau” is accepting membership applications for the Defense Trade Advisory Group (DTAG). The Bureau is interested in applications from subject matter experts from the United States defense industry, relevant trade and labor associations, and academic and foundation personnel.

SUPPLEMENTARY INFORMATION: The DTAG was established as an advisory committee under the authority of 22 U.S.C. 2656 and the Federal Advisory Committee Act, 5 U.S.C. App. (“FACA”). The purpose of the DTAG is to provide the Bureau of Political-Military Affairs with a formal channel for regular consultation and coordination with U.S. private sector defense exporters and defense trade organizations on issues involving U.S. laws, policies, and regulations for munitions exports. The DTAG advises the Bureau on its support for and regulation of defense trade to help ensure that impediments to legitimate exports are reduced while the foreign policy and national security interests of the United States continue to be protected and advanced in accordance with the Arms Export Control Act (AECA), as amended. Major topics addressed by the DTAG include (a) policy issues on commercial defense trade and technology transfer; (b) regulatory and licensing procedures applicable to defense articles, services, and technical data; (c) technical issues involving the U.S. Munitions List (USML); and (d) questions related to the implementation of the AECA and International Traffic in Arms Regulations (ITAR).

Members are appointed by the Assistant Secretary of State for Political-Military Affairs on the basis of individual qualifications and technical expertise. Past members include representatives of the U.S. defense industry, relevant trade and labor associations, and academic and foundation personnel. In accordance with the DTAG Charter, all DTAG members must be U.S. citizens. DTAG members are expected to serve a consecutive two-year term, which may be renewed or terminated at the discretion of the Assistant Secretary of State for Political-Military Affairs. DTAG members are expected to represent the views of their organizations, while also demonstrating an appreciation for the Department's mission to ensure that commercial exports of defense articles and defense services advance U.S. national security and foreign policy objectives. DTAG members are expected to understand complex issues related to commercial defense trade and industrial competitiveness and are expected to advise the Bureau on these matters.

DTAG members' responsibilities include:

• Making recommendations in accordance with the DTAG Charter and the FACA.

• Making policy and technical recommendations within the scope of the U.S. commercial export control regime as set forth in the AECA, the ITAR, and appropriate directives.

Please note that DTAG members may not be reimbursed for travel, per diem, and other expenses incurred in connection with their duties as DTAG members.

How to apply: Applications in response to this notice must contain the following information: (1) Name of applicant; (2) affirmation of U.S. citizenship; (3) organizational affiliation and title, as appropriate; (4) mailing address; (5) work telephone number; (6) email address; (7) resume; and (8) summary of qualifications for DTAG membership.

This information may be provided via two methods:

• Emailed to the following address: DTAG@State.Gov. In the subject field, please write, “DTAG Membership Application.”

• Sent in hardcopy to the following address: Pecolia Henderson, PM/DDTC, SA-1, 12th Floor, Directorate of Defense Trade Controls, Bureau of Political-Military Affairs, U.S. Department of State, Washington, DC 20522-0112. If sent via regular mail, we recommend you call Ms. Henderson (202-663-2748) to confirm she has received your package.

All applications must be postmarked by February 25, 2022.

Michael F. Miller,
Alternate Designated Federal Officer, Defense Trade Advisory Group, U.S. Department of State.

[FR Doc. 2022-02266 Filed 2-2-22; 8:45 am]

BILLING CODE 4710-25-P